DEPARTMENT OF THE TREASURY

Customs Service

[T.D. 00-9]

Retraction of Revocation Notice

AGENCY: U.S. Customs Service, Department of the Treasury.

ACTION: General notice.

SUMMARY: The following Customs broker license numbers were erroneously included in a published list of revoked Customs brokers licenses in the Federal Register.

Port | Name | License No.
Laredo | A and A Customs Brokerage Services, Inc | 10303
New York | Walker International Transportation | 11898
Baltimore | Airschott, Inc | 06518
Licenses 10303, 11898 and 06518 are valid licenses.

Dated: February 17, 2000.
Raymond W. Kelly,
Commissioner.

[FR Doc. 00-4511 Filed 2-24-00; 8:45 am]

BILLING CODE 4820-02-P